DEPARTMENT OF THE INTERIOR

Fish and Wildlife Service

[FWS-R7-ES-2019-N122; FF07CAMM00.FX.ES111607MRG02; OMB Control Number 1018-0066]

Agency Information Collection Activities; Marine Mammal Marking, Tagging, and Reporting Certificates, and Registration of Certain Dead Marine Mammal Hard Parts

AGENCY: Fish and Wildlife Service, Interior.

ACTION: Notice of information collection; request for comment.

SUMMARY: In accordance with the Paperwork Reduction Act of 1995, we, the U.S. Fish and Wildlife Service (Service), are proposing to renew an information collection.

DATES: Interested persons are invited to submit comments on or before January 31, 2020.

ADDRESSES: Send your comments on the information collection request by mail to the Service Information Collection Clearance Officer, U.S. Fish and Wildlife Service, MS: PRB/PERMA (JAO/1N), 5275 Leesburg Pike, Falls Church, VA 22041-3803 (mail); or by email to Info_Coll@fws.gov. Please reference OMB Control Number 1018-0066 in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under section 101(b) of the Marine Mammal Protection Act of 1972, as amended (MMPA; 16 U.S.C. 1361-1407), Alaska Natives residing in Alaska and dwelling on the coast of the North Pacific or Arctic Oceans may harvest polar bears, northern sea otters, and Pacific walruses for subsistence or handicraft purposes. Section 109(i) of the MMPA authorizes the Secretary of the Interior to prescribe marking, tagging, and reporting regulations applicable to the Alaska Native subsistence and handicraft take.

On behalf of the Secretary, we implemented regulations at 50 CFR 18.23(f) for Alaska Natives harvesting polar bears, northern sea otters, and Pacific walruses. These regulations enable us to gather data on the Alaska Native subsistence and handicraft harvest and on the biology of polar bears, northern sea otters, and Pacific walruses in Alaska to determine what effect such take may be having on these populations. The regulations also provide us with a means of monitoring the disposition of the harvest to ensure that any commercial use of products created from these species meets the criteria set forth in section 101(b) of the MMPA. We use three forms to collect the information: FWS Form 3-2414 (Polar Bear Tagging Certificates), FWS Form 3-2415 (Walrus Tagging Certificates), and FWS Form 3-2416 (Sea Otter Tagging Certificates). The information we collect includes, but is not limited to:

• Date of kill;

• Sex of the animal;

• Kill location;

• Age of the animal (i.e., adult, subadult, cub, or pup);

• Form of transportation used to make the kill of polar bears;

• Amount of time (i.e., hours/days hunted) spent hunting polar bears;

• Type of take (live-killed or beach-found) for walrus;

• Number of otters present in and number of otters harvested from pod;

• Condition of the polar bear and whether or not bear cubs were present; and

• Name of the hunter or possessor of the specified parts at the time of marking, tagging, and reporting.

We use FWS Form 3-2406 (Registration of Certain Dead Marine Mammal Hard Parts) to record the collection of bones, teeth, or ivory of dead marine mammals by non-Native and Natives not eligible to harvest marine mammals under the MMPA. It is legal to collect such parts from a beach or from land within a quarter of a mile of the ocean (50 CFR 18.26). The information we collect via Form 3-2406 includes, but is not limited to:

• Date and location found.

• Age, sex, and size of the animal.

• Tag numbers.

• Name, address, phone number, and birthdate of the collector.

As part of this renewal process, the Service plans to carefully review each form to determine whether any updates need to be made to the forms. If updates are made, we will clearly annotate those updates in the required submission to OMB.

Title of Collection: Marine Mammal Marking, Tagging, and Reporting Certificates, and Registration of Certain Dead Marine Mammal Hard Parts, 50 CFR 18.23(f) and 18.26.

OMB Control Number: 1018-0066.

Form Number: FWS Forms 3-2406, 3-2414, 3-2415, and 3-2416.

Type of Review: Extension of a currently approved collection.

Respondents/Affected Public: Individuals and households, private sector, and State/local/Tribal governments.

Respondent's Obligation: Required to obtain or retain a benefit.

Frequency of Collection: On occasion.

Total Estimated Annual Nonhour Burden Cost: None.

Activity | Number of respondents | Number of responses | Completion time per response (minutes) | Total annual burden hours
3-2414 (Polar Bear) | 25 | 60 | 15 | 15
3-2415 (Walrus) | 100 | 500 | 15 | 125
3-2416 (Sea Otter) | 75 | 1,280 | 15 | 320
3-2406 (Beach Found) | 300 | 300 | 15 | 75
Totals | 500 | 2,140 |  | 535

An agency may not conduct or sponsor and a person is not required to respond to a collection of information unless it displays a currently valid OMB control number.

The authority for this action is the Paperwork Reduction Act of 1995 (44 U.S.C. 3501 et seq.).

Dated: November 25, 2019.
Madonna L. Baucum,
Information Collection Clearance Officer, U.S. Fish and Wildlife Service.

[FR Doc. 2019-25982 Filed 11-29-19; 8:45 am]

BILLING CODE 4333-15-P